DEPARTMENT OF JUSTICE

Notice of Extension to Public Comment Period for Consent Decree Under the Clean Air Act

On December 14, 2018, the Department of Justice lodged a proposed Consent Decree with the United States District Court for the Western District of Arkansas in the lawsuit entitled United States, et al. v. Georgia Pacific Chemicals LLC, Georgia Pacific Consumer Operations LLC, Case No. 1:18-cv-01076-SOH.

The proposed Consent Decree resolves the United States' and the Arkansas Department of Environmental Quality's (“ADEQ”) claims under Sections 113(b)(2) and 112(r) of the Clean Air Act (“CAA”), 42 U.S.C. 7413(b)(2) and 7412(r), as well as Arkansas Code Annotated §§ 8-4-103 et seq., that Settling Defendants violated the New Source Performance Standards, National Emission Standards for Hazardous Air Pollutants and the Chemical and Accident Prevention Provisions for Air Programs at their chemical and paper/pulp plants located in Crossett, Arkansas. Under the proposed Consent Decree, Settling Defendants have agreed to pay a penalty of $600,000, implement three Supplemental Environmental Projects valued at $1.8 million and implement a mitigation project valued at $2.9 million to resolve the governments' claims.

Notice of the lodging of the proposed Consent Decree was originally published in the Federal Register on December 20, 2018. See 83 FR 65363 (Dec. 20, 2018). The publication of the original notice opened a thirty (30) day period for public comment on the Consent Decree that ended on January 22, 2019. The publication of the current notice extends the period for public comment on the Consent Decree to February 28, 2019.

Comments should be addressed to the Assistant Attorney General, Environment and Natural Resources Division, and should refer to Georgia Pacific Chemicals LLC, Georgia Pacific Consumer Operations LLC, Case No. 1:18-cv-01076-SOH, D.J. Ref. No. 90-5-2-1-11705. All comments must be submitted no later than February 28, 2019. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $13.75 (25 cents per page reproduction cost) payable to the United States Treasury.

Thomas Carroll,
Assistant Section Chief, Environmental Enforcement Section, Environment and Natural Resources Division.

[FR Doc. 2019-02353 Filed 2-13-19; 8:45 am]

BILLING CODE 4410-15-P